DEPARTMENT OF AGRICULTURE

Forest Service

Information Collection; Trends in Use and Users in the Boundary Waters Canoe Area Wilderness, MN

AGENCY: Forest Service, USDA.

ACTION: Notice; request for comment.

SUMMARY: In accordance with the Paperwork Reduction Act of 1995, the Forest Service is seeking comments from all interested individuals and organizations on the new information collection entitled, Trends in Use and Users in the Boundary Waters Canoe Area Wilderness, Minnesota.

DATES: Comments must be received in writing on or before March 13, 2007 to be assured of consideration. Comments received after that date will be considered to the extent practicable.

ADDRESSES: Comments concerning this notice should be addressed to Alan E. Watson, Aldo Leopold Wilderness Research Institute, USDA Forest Service Rocky Mountain Research Station, 790 E. Beckwith Ave., Missoula, MT 59801.

Comments also may be submitted via facsimile to (406) 542-4196 or by e-mail to: awatson@fs.fed.us.

The public may inspect comments received at the Aldo Leopold Wilderness Research Institute, USDA Forest Service Rocky Mountain Station, 790 E. Beckwith Ave., Missoula, MT 59801 during normal business hours. Visitors are encouraged to call ahead to (406) 542-4197 to facilitate entry to the building.

FOR FURTHER INFORMATION CONTACT: Alan E. Watson, Aldo Leopold Wilderness Research Institute at (406) 542-4197. Individuals who use TDD may call the Federal Relay Service (FRS) at 1-800-877-8339, 24 hours a day, every day of the year, including holidays.

SUPPLEMENTARY INFORMATION: Title: Trends in Use and Users in the Boundary Waters Canoe Area Wilderness, Minnesota.

OMB Number: 0596-NEW.

Type of Request: New.

Abstract: The Wilderness Act of 1964 directs the National Wilderness Preservation System (System) be managed to protect natural wilderness conditions and to provide outstanding opportunities for the public to find solitude or primitive and unconfined types of recreational experiences.

To meet the requirements of the Act and help the Forest Service enhance visitors' recreational experiences at the Boundary Waters Canoe Area Wilderness in Minnesota, agency scientists periodically monitor and report, to managers and the public, changes in visitor use and user characteristics over time. Forest Service personnel use the collected information to mitigate the impact of visitors' recreational activities on the natural resources of the National Wilderness Preservation System. The agency intends to record visitor responses in 2007 for comparison to similar surveys in 1969 and 1991, and expand the scope of the survey to include things that have potentially influenced visits since 1991. Potential influences include new recreation fees, widespread natural disturbances (e.g., fire and wind thrown trees) and changes in agency policies. The data from this information collection will be stored at the Aldo Leopold Wilderness Research Institute in Missoula, Montana. Scientists working at the Research Institute will conduct the data analysis.

The Forest Service will use information from this collection to:

(1) Understand changes in:

a. Individual visitor demographics, frequency of wilderness visits, and residence, and

b. changes in recreational visits such as group size, difficulty in finding campsites, evaluations of conditions encountered, etc. since previous studies;

(2) Gain an understanding of how the agency's management of the National Wilderness Preservation System influences a visitor's wilderness experience;

(3) Help understand how to educate visitors, so they may enjoy their wilderness experience without leaving permanent reminders of their visits, such as damaged vegetation, litter, and polluted lakes and streams; and

(4) Provide information that will assist in planning management direction for many other wilderness areas managed by the Forest Service.

Respondents will be visitors to the Boundary Waters Canoe Area Wilderness. Forest Service or university cooperator personnel will conduct face-to-face, on-site interviews with visitors as they enter the System and will send mail-back survey forms to visitors at their homes, using addresses that visitors voluntarily provide when interviewed.

Interview questions will cover number of visits, length of visits, and plans (if any) for future visits. Visitors will be asked:

• Number of times they have visited, length of visits, and plans (if any) for future visits;

• If they are part of a group, and if so, the size of the group;

• Whether they use equipment, such as stoves, or use wood for fires while visiting;

• Preferences for social conditions (i.e. acceptance of crowded conditions designed to limit negative effects to the natural resources); and

• Ideas for reducing the burden of information collected (i.e. suggestions for distribution of permits and collection of fees); and protecting resources.

Data collected in this information collection are not available from other sources.

The Boundary Waters Canoe Area Wilderness is one of four areas, in different regions of the country, where more than one study has occurred in the past. The studies have sought to understand how use and user characteristics are changing. Periodic evaluations of responses by visitors about conditions and experiences, contributes to a systematic effort to understand the effects of management policies and societal influences on wilderness protection.

Estimate of Annual Burden: 20 minutes for each respondent.

Type of Respondents: Visitors to the Boundary Waters Canoe Wilderness Area, Minnesota.

Estimated Annual Number of Respondents: 500.

Estimated Annual Number of Responses per Respondent: Once.

Estimated Total Annual Burden on Respondents: 167 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: January 4, 2007.
Ann M. Bartuska,
Deputy Chief for Research & Development.

[FR Doc. E7-361 Filed 1-11-07; 8:45 am]

BILLING CODE 3410-11-P